DEPARTMENT OF ENERGY

Federal Energy Regulatory Commission

[Docket No. EC04-159-000, et al.]

DTE Georgetown, LP, et al.; Electric Rate and Corporate Filings

September 22, 2004.

The following filings have been made with the Commission. The filings are listed in ascending order within each docket classification.

1. DTE Georgetown, LP

[Docket No. EC04-159-000]

Take notice that on September 20, 2004, DTE Georgetown, LP (Georgetown), submitted an application pursuant to section 203 of the Federal Power Act for authorization of a disposition of jurisdictional facilities whereby Georgetown will sell to the Indiana Municipal Power Agency in an asset transfer the jurisdictional facilities associated with 142 MW of electric generating capacity at Georgetown's 213 MW electric generating facility in Indianapolis, Indiana.

Comment Date: 5 p.m. eastern standard time on October 12, 2004.

2. MidAmerican Energy Company

[Docket No. ER04-627-002]

Take notice that on September 16, 2004, MidAmerican Energy Company (MidAmerican), submitted a compliance filing pursuant to the Commission's letter order issued August 17, 2004 in Docket No. ER04-627-001.

MidAmerican states that it has served a copy of the filing on the Iowa Utilities Board, the Illinois Commerce Commission, South Dakota Public Utilities Commission, and NPPD.

Comment Date: 5 p.m. eastern standard time on October 7, 2004.

3. California Independent System Operator Corporation

[Docket No. ER04-938-002]

Take notice that on September 16, 2004, the California Independent System Operator Corporation (ISO) submitted a compliance filing pursuant to the Commission's order issued August 17, 2004 in Docket No. ER04-938-000, 108 FERC ¶ 61,193.

ISO states that this filing has been served upon all parties on the official service list for the captioned docket. In addition, the ISO has posted this filing on the ISO Home Page.

Comment Date: 5 p.m. eastern standard time on October 7, 2004.

4. PJM Interconnection, L.L.C.

[Docket No. ER04-1063-001]

Take notice that on September 17, 2004, PJM Interconnection, L.L.C. (PJM), supplemented its July 29, 2004 filing in Docket No. ER04-1063-000 an executed interconnection service agreement and an executed construction service agreement among PJM, Granger Energy of Morgantown, LLC, and PPL Electric Utilities Corporation.

PJM states that copies of this filing were served upon the parties to the agreement and the state regulatory commissions within the PJM region, and all parties on the official service list compiled by the Secretary in this proceeding.

Comment Date: 5 p.m. eastern standard time on October 8, 2004.

5. Pacific Gas and Electric Company

[Docket No. ER04-1230-000]

Take notice that on September 17, 2004, Pacific Gas and Electric Company (PG&E) tendered for filing a Letter of Agreement (LOA) between PG&E and Sacramento Municipal Utility District (SMUD) designated as Original Sheet Nos. 262A and 262B under PG&E's Second Revised Rate Schedule FERC No. 136. Parties request an effective date of September 15, 2004.

PG&E states that these filings were served upon SMUD, the California Independent System Operator, and the California Public Utilities Commission.

Comment Date: 5 p.m. eastern standard time on October 8, 2004.

6. Southwest Power Pool, Inc.

[Docket No. ER04-1232-000]

Take notice that on September 17, 2004, Southwest Power Pool, Inc. (SPP) submitted to the Commission to its Open Access Transmission Tariff, FERC Electric Tariff Fourth Revised Volume No. 1, intended to implement a rate change for Southwestern Public Service Company. SPP requests an effective date of November 1, 2004.

SPP states that it has served a copy of its transmittal letter on each of its Members and Customers. SPP also states that a complete copy of this filing will be posted on the SPP Web site http://www.spp.org and is also being served on all affected state commissions.

Comment Date: 5 p.m. eastern standard time on October 8, 2004.

Standard Paragraph

Any person desiring to intervene or to protest this filing must file in accordance with Rules 211 and 214 of the Commission's Rules of Practice and Procedure (18 CFR 385.211 and 385.214). Protests will be considered by the Commission in determining the appropriate action to be taken but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2419 Filed 9-29-04; 8:45 am]

BILLING CODE 6717-01-P